DEPARTMENT OF TRANSPORTATION

Federal Aviation Administration

14 CFR Part 23

[Docket No. CE277; Special Conditions No. 23-217-SC]

Special Conditions: Honda Aircraft Company Model HA-420 Hondajet, Protection of Systems for High Intensity Radiated Fields (HIRF); Withdrawal

AGENCY: Federal Aviation Administration (FAA), DOT.

ACTION: Final special conditions; withdrawal.

SUMMARY: The FAA is withdrawing a previously published notice granting special conditions for the Honda Aircraft Company model HA-420 jet airplane. We are withdrawing Special Condition No. 23-217-SC through mutual agreement with Honda Aircraft Company.

DATES: This special condition published on December 10, 2007 (72 FR 69572) is withdrawn, effective April 27, 2015.

FOR FURTHER INFORMATION CONTACT: James Brady, Federal Aviation Administration, Small Airplane Directorate, Aircraft Certification Service, 901 Locust, Room 301, Kansas City, MO 64106; telephone (816) 329-4132; facsimile (816) 329-4090, email james.brady@faa.gov.

SUPPLEMENTARY INFORMATION:

Background

On December 10, 2007, the FAA published Special Condition No. 23-217-SC for the Honda Aircraft Company new model HA-420. The HA-420 is a four to five passenger (depending on configuration), two crew, lightweight business jet with a 43,000-foot service ceiling and a maximum takeoff weight of 9963 pounds. The airplane is powered by two GE-Honda Aero Engines (GHAE) HF-120 turbofan engines mounted above the wings towards the aft of the airplane.

On October 11, 2006, Honda Aircraft Company applied for a type certificate for their new Model HA-420 aircraft. On October 10, 2013, Honda Aircraft Company requested an extension with an effective application date of October 1, 2013. This extension changed the type certification basis to amendment 23-62.

Reason for Withdrawal

The FAA is withdrawing Special Condition No. 23-217-SC because Honda Aircraft Company elected to revise the model HA-420 certification basis to amendment 23-62. This amendment contains adequate and appropriate standards for HIRF.

The authority citation for this Special Condition withdrawal is 49 U.S.C. 106(g), 40113 and 44701; 14 CFR 21.16 and 21.17; and 14 CFR 11.38 and 11.19.

Conclusion

Withdrawal of this special condition does not preclude the FAA from issuing another notice on the subject matter in the future or committing the agency to any future course of action.

Issued in Kansas City, Missouri on April 20, 2015.
Earl Lawrence,
Manager, Small Airplane Directorate, Aircraft Certification Service.

[FR Doc. 2015-09743 Filed 4-24-15; 8:45 am]

BILLING CODE 4910-13-P